DEPARTMENT OF COMMERCE

National Oceanic and Atmospheric Administration

Notice of Availability of Draft Environmental Impact Statement (DEIS), Notice of Public Comment Period for the DEIS and Schedule of Public Hearings for the National Oceanic and Atmospheric Administration's Office of Ocean and Coastal Resource Management's Review of Amendments to the Alaska Coastal Management Program

AGENCY: Department of Commerce (DOC), National Oceanic and Atmospheric Administration (NOAA), Office of Ocean and Coastal Resource Management (OCRM).

ACTION: Notice of Availability of DEIS, Notice of Public Comment Period for the DEIS and Schedule of Public Hearings.

SUMMARY: NOAA's Office of Ocean and Coastal Resource Management is issuing this notice to advise the public that a DEIS for OCRM's review of amendments to the Alaska Coastal Management Program has been prepared and is available for public review and comment. Written requests for the DEIS and written comments on the DEIS can be submitted to the individual listed in the section FOR FURTHER INFORMATION CONTACT. Public hearings will be held on October 31, 2005 and November 1, 2005. The public comment period commenced on September 23, 2005 and will close on November 7, 2005.

Public Comment Hearings: The start of the public comment period on the DEIS was September 23, 2005, and will end on November 7, 2005. Two public hearings will be held; one on October 31, 2005 and one on November 1, 2005, in Juneau and Anchorage, Alaska, respectively. The public hearing on Monday, October 31, 2005 will be held in Juneau, Alaska at the Centennial Hall Convention Center, Egan Room, (101 Egan Drive) and will begin at 10 a.m. and last until 3 p.m. The public hearing on Tuesday, November 1, 2005 will be held in Anchorage, Alaska at the Hotel Captain Cook (939 West Fifth Avenue) and will begin at 1 p.m. and last until 6 p.m.

DEIS Availability and Review

Copies of the DEIS are available either on CD or hard copy by contacting Helen Bass at the FOR FURTHER INFORMATION CONTACT section below. In addition, the DEIS has been posted on OCRM's Web site at http://coastalmanagement.noaa.gov/pcd/up.html and the Alaska Coastal Management Program's Web site at http://www.alaskacoast.state.ak.us.

Comments from interested parties on the DEIS are encouraged and may be presented orally at the public hearings. Written comments may be submitted to OCRM during the public hearings and at the address (including e-mail address) listed in the section entitled FOR FURTHER INFORMATION CONTACT.

OCRM encourages all interested parties to provide comments concerning the scope and content of the DEIS. Comments should be as specific as possible and address the analysis of potential of alternatives. Reviewers should organize their comments so that it is meaningful and makes the agency aware of the viewer's interests and concerns using quotations and other specific references to the text of the DEIS and related documents. Matters that could have been raised with specificity during the comment period on the DEIS may not be considered if they are raised later in the decision process. This commenting procedure is intended to ensure that substantive comments and concerns are made available to OCRM in a timely manner so that OCRM has an opportunity to address them.

SUPPLEMENTARY INFORMATION: The DEIS discloses the environmental consequences associated with OCRM's review of amendments to the State of Alaska's federally-approved coastal management program (CMP). OCRM's approval of Alaska's request to incorporate changes into the Alaska CMP would allow the State to continue its certification as a federally-approved CMP, receive Coastal Zone Management Act (CZMA) funds to implement the revised program, and conduct State and federal consistency reviews based on the revised program policy. Incorporation of Alaska's new laws and regulations and one Executive Order into its program will result in the following changes:

• Eliminate the Alaska CMP Coastal Policy Council and transfer of its functions to the Alaska Department of Natural Resources;

• Replace current statewide coastal standards with new standards, along with mandated revisions for all district plans to achieve new standards and meet new policy development requirements;

• Assure that matters regulated or authorized by State or federal law are not duplicated by coastal or district enforceable policies, and that district plans address matters specific to local concern;

• Exempt certain activities from the coastal consistency review process through coverage under the State's ABC list review or Department of Environmental Conservation review; and

• Limit the parties who have standing to file legal claims challenging Alaska CMP consistency decisions.

The proposed review will be completed, and OCRM's decision finalized by December 31, 2005. Depending on the alternative implemented, there may be positive socio-economic benefits associated with a more efficient permitting process, negative impacts to subsistence resources due to changes in Alaska's coastal standards and procedures for district plan development, or long-term negative environmental and socio-economic impacts associated with Alaska's withdrawal from the federal CZMA program.

The purpose and need for OCRM's review of the amendments is reviewed in the DEIS. All reasonable, prudent and feasible alternatives are being considered, including the no-action alternative.

FOR FURTHER INFORMATION CONTACT: Helen Bass, Environmental Protection Specialist, National Oceanic and Atmospheric Administration, OCRM/CPD, N/ORM3 Station 11207, 1305 East-West Highway, Silver Spring, MD 20910 or Helen.Bass@noaa.gov. Ms. Bass may be contacted during business hours at (301) 713-3155, extension 175 (telephone) and 301-713-4367 (fax).

The comment period will close on November 7, 2005.

(Federal Domestic Assistance Catalog 11.419 Coastal Zone Management Program Administration)
Dated: October 3, 2005.
Eldon Hout,
Director, Office of Ocean and Coastal Resource Management, National Ocean Service, National Ocean and Atmospheric Administration.

[FR Doc. 05-20326 Filed 10-6-05; 8:45 am]

BILLING CODE 3510-08-P